DEPARTMENT OF LABOR

Employment and Training Administration

[TA-W-39,163]

Bridgestone/Firestone Tire and Rubber Company, Inc. Decatur, IL; Notice of Revised Determination on Reconsideration

By application of November 20, 2001, the United Steel Workers of America, Local 713 requested administrative reconsideration regarding the Department's Negative Determination Regarding Eligibility to Apply for Worker Adjustment Assistance, applicable to the workers of the subject firm.

The initial investigation resulted in the negative determination, based on the finding that imports of light truck and passenger (radial) tires did not contribute importantly to worker separations at the subject plant. The denial notice was signed on September 25, 2001 and published in the Federal Register on October 11, 2001 (66 FR 51773).

The applicant on reconsideration indicated that shortly after their petition was filed, the company announced that they would close the subject plant down permanently. The petitioner further indicates that plant production will be replaced with imported tires.

An examination of additional documentation furnished by the petitioner and further review of existing information supplied by the company during the initial investigation reveals that the company increased their reliance on imported tires during the relevant period.

Conclusion

After careful consideration of the new facts obtained on reconsideration, it is concluded that increased imports of tires, contributed importantly to the decline in production and to the total or partial separation of workers at Bridgestone/Firestone Tire and Rubber Company, Inc., Decatur, Illinois. In accordance with the provision of the Act, I make the following revised determination:

Workers of Bridgestone/Firestone Tire and Rubber Company, Inc., Decatur, Illinois, who became totally or partially separated from employment on or after April 30, 2000 through two years from the date of this certification, are eligible to apply for adjustment assistance under Section 223 of the Trade Act of 1974.

Signed in Washington, DC this 25th day of February 2002.
Edward A. Tomchick,
Director, Division of Trade Adjustment Assistance.

[FR Doc. 02-5586 Filed 3-7-02; 8:45 am]

BILLING CODE 4510-30-M